ENVIRONMENTAL PROTECTION AGENCY

[FRL-6843-8]

Agency Information Collection Activities Up for Renewal; Request for Comments: Emission Control System Performance Warranty Regulations and Voluntary Aftermarket Part Certification Program

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB); Emission Control System Performance Warranty Regulations and Voluntary Aftermarket Part Certification Program (OMB) #2060-0060, approved through 8/31/00). Before submitting the ICR to OMB for review and approval, EPA is soliciting comments on specific aspects of the collections as described below.

DATES: Comments must be submitted on or before October 2, 2000.

ADDRESSES: Comments must be submitted to Chestine Payton, (6405J) U.S. EPA, 1200 Pennsylvania Avenue, NW., Washington, DC 20460. Interested persons may request a copy of the ICR without charge, by calling Chestine Payton at (202) 564-9328.

FOR FURTHER INFORMATION CONTACT: Chestine Payton, Office of Transportation and Air Quality, Vehicle Programs and Compliance Division, (202) 564-9328, fax (202) 565-2057. E-mail address: payton,chestine@epa.gov.

SUPPLEMENTARY INFORMATION: Affected entities: Parties potentially affected by this action are those which automotive manufacturers and builders of automotive aftermarket parts.

Title: Emission Control Systems Performance Warranty Regulations & Voluntary Aftermarket Part Certification Program, OMB 32060-0060, Expiration date 8/31/00.

Abstract: The information required is the minimal necessary to ensure that the part to be certified actually performs as required. Without this information EPA would have no way to control and audit fraudulent or marginal submissions. Since information is only collected when the part is tested to be certified, if no information is collected at the time of testing there will be no means of showing later that the part was properly designed, EPA would not be able to control the self-certification of parts and this could, therefore, result in certified parts that cause vehicles to fail emissions standards.

The information collected is part of the requirement of Section 207(a) of the Clean Air Act, as described in section 40 CFR Part 85, Subpart V. This is a voluntary certification program and there is no requirement that any manufacturer participate.

The total estimated involvement of the aftermarket part industry 9 replacement and specialty parts) is 2 parts per year.

The EPA would like to solicit comments to:

(i) Evaluate whether the proposed collection of information is necessary for the proper performance of the functions of the agency, including whether the information will have practical utility;

(ii) Evaluate the accuracy of the agency's estimate of the burden of the proposed collection of information;

(iii) Enhance the quality, utility, and clarity of the information to be collected; and

(iv) Minimize the burden of the collection of information on those who are to respond, including through the use of appropriate automated collection techniques or other forms of information technology, e.g., permitting electronic submission of responses.

Burden Statement: EPA's burden estimated for this information collection is broken down into three parts: reporting, testing and recordkeeping burden. EPA estimates that the reporting burden will be 116 hours, testing 260 hours and annual recordkeeping 3 hours. Burden means the total time, effort, or financial resources expended by persons to generate, maintain, retain, or disclose or provide information to or for a federal agency. For this collection it includes the time needed to review instructions; develop, acquire, install, and utilize technology and systems for the purpose of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Parties potentially affected by this action are automotive manufacturers and builders of automotive aftermarket parts;

Estimated Number of Respondents: 2.

Frequency of Response: On occasion.

Estimated Total Annual Hour Burden: 1,722 hours.

Estimated Total Annualized Cost Burden: $75,889.00.

Send comments on the Agency's need for this information, the accuracy of the provided burden estimates, and any suggested methods for minimizing respondent burden, including through the use of automated collection techniques to the following address. Please refer to EPA ICR No. 0116.05 and OMB Control No. 2060-0060 in any correspondence.

Ms. Sandy Farmer, U.S. Environmental Protection Agency, Office of Environmental Information, Collection Strategies Division (2822), 1200 Pennsylvania Ave., NW., Washington, DC 20460 and Office of Information and Regulatory Affairs, Office of Management and Budget, Attention: Desk Officer for EPA, 725 17th Street, NW., Washington, DC 20503.

Dated: July 27, 2000.
Robert Perciasepe,
Assistant Administrator for Air and Radiation.

[FR Doc. 00-19539 Filed 8-1-00; 8:45 am]

BILLING CODE 6560-50-M